DEPARTMENT OF ENERGY

Federal Energy Regulatory Commission

[Project No. 5596-020]

Town of Bedford; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 5596-020.

c. Date Filed: April 30, 2021.

d. Applicant: Town of Bedford.

e. Name of Project: Bedford Hydroelectric Project.

f. Location: On the James River in the town of Bedford in Bedford and Amherst counties, Virginia. The project does not affect federal lands.

g. Filed Pursuant to: Federal Power Act 16 U.S.C. 791(a)-825(r).

h. Applicant Contact: M. Scott Salmon, Electric Systems Engineer, Town of Bedford Electric Department, 877 Monroe Street, Bedford, Virginia 24523; (540) 587-6079.

i. FERC Contact: Allyson Conner, (202) 502-6082 or allyson.conner@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 29, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Bedford Hydroelectric Project (P-5596-020).

m. This application is not ready for environmental analysis at this time.

n. The existing Bedford Hydroelectric Project (Bedford Project) consists of: (1) A 9-to 17-foot-high concrete gravity dam with a 1,680-foot-long concrete spillway; (2) a 57-acre impoundment with a storage capacity of 350 acre-feet at the normal maximum water surface elevation of 628.0 feet above mean sea level; (3) a 1,200-foot-long, 180-foot-wide, 16-foot-deep power canal; (4) a power canal headgate composed of three 21.6-foot-wide, 15.9-foot-high steel gates; (5) a 49.1-foot-wide, 29.02-foot-high steel trashrack with a clear bar spacing of 3.5-inches; (6) a 55-foot-long, 80-foot-wide powerhouse; (7) two 2.5-megawatt (MW) turbine-generator units with a total capacity of 5.0 MW; (8) a 65-foot-long, 120-foot-wide tailrace; (9) a 4.0-kilovolt, 120-foot-long underground transmission line from the powerhouse to the project substation; (10) two 3.75-megavolt-ampere step-up transformers; and (11) appurtenant facilities.

The Bedford Project is operated in run-of-river mode. The average annual generation is estimated to be 1,114.75 megawatt-hours.

o. A copy of the application can be viewed on the Commission's website at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—July 2021

Request Additional Information—July 2021

Issue Acceptance Letter—October 2021

Issue Scoping Document 1—October 2021

Comments on Scoping Document 1 due—November 2021

Issue Scoping Document 2 (if necessary)—January 2022

Issue Notice of Ready for Environmental Analysis—February 2022

Commission issues EA—July 2022

Comments on EA—August 2022

q. Final amendments to the application must be filed with the Commission no later than 30 days from the issuance date of the notice of ready for environmental analysis.

Dated: May 13, 2021.
Kimberly D. Bose,
Secretary.

[FR Doc. 2021-10541 Filed 5-18-21; 8:45 am]

BILLING CODE 6717-01-P